DEPARTMENT OF LABOR

Employment and Training Administration

[TA-W-50,191]

Alfred Dunner Inc., Parsippany, NJ; Notice of Termination of Investigation

Pursuant to Section 221 of the Trade Act of 1974, an investigation was initiated on June 18, 2001, in response to a worker petition which was filed by a company official on behalf of workers at Alfred Dunner Inc., Parsippany, New Jersey.

The petitioner has requested that the petition be withdrawn. Consequently further investigation in this case would serve no purpose, and the investigation has been terminated.

Signed in Washington, DC this 4th day of December, 2002.
Richard Church,
Certifying Officer, Division of Trade Adjustment Assistance.

[FR Doc. 02-32233 Filed 12-20-02; 8:45 am]

BILLING CODE 4510-30-P